DEPARTMENT OF TRANSPORTATION

National Highway Traffic Safety Administration

Denial of a Petition for an Investigation Into the Adequacy of Recall Remedy, RP03-001

AGENCY: National Highway Traffic Safety Administration (NHTSA), Department of Transportation.

ACTION: Denial of petition for an investigation into the adequacy of a recall remedy.

SUMMARY: This notice sets forth the reasons for the denial of a petition submitted to NHTSA under 49 U.S.C. 30120(e), requesting that the agency investigate the adequacy of a remedy to address a defect in the adjustable brake and accelerator pedals on model year (MY) 2000 Mercury Sable vehicles. The petition is identified as RP03-001.

FOR FURTHER INFORMATION CONTACT: Mr. Jonathan White, Office of Defects Investigation (ODI), NHTSA, 400 Seventh Street, SW., Washington, DC 20590. Telephone: (202) 366-5226.

SUPPLEMENTARY INFORMATION: Ms. Linda Rodman of North Hollywood, CA, submitted a petition to NHTSA by letter dated September 5, 2003, requesting NHTSA to further investigate the adjustable brake/accelerator pedal movement on MY 2000 Mercury Sable vehicles manufactured by Ford Motor Company (Ford). Ms. Rodman reported that on June 21, 2003, her mother was turning into a parking space when her MY 2000 Mercury Sable suddenly accelerated on to a grassy median, struck a light pole head on, and then came to rest after hitting a parked car.

NHTSA had previously conducted an investigation (PE02-035) into this issue. Consistent with facts developed in that investigation, on October 1, 2002, Ford notified NHTSA that it would recall 369,614 MY 2000 through 2002 Ford Taurus and Mercury Sable vehicles (subject vehicles) to address a safety-related defect (NHTSA Recall 02V-266). Under that recall, Ford and Mercury dealers were to inspect the lateral separation distance between the brake pedal and the accelerator pedal and, if needed, adjust the pedals to obtain a minimum lateral separation of 50 mm. This would reduce the likelihood of a driver contacting both the brake and accelerator pedals, which could result in unwanted vehicle acceleration.

The petitioner stated that she brought her vehicle to her dealer in response to this recall and was told that no adjustment was needed. Subsequently, while the petitioner's mother was driving the vehicle, it allegedly suddenly accelerated and struck a light pole and a parked car. The petitioner therefore claims that the remedy identified by Ford for this recall does not sufficiently correct the brake and accelerator pedal lateral movement in the subject vehicles.

A review of the ODI complaint database revealed only one complaint regarding the adequacy of the recall remedy, that of the petitioner.

On December 10, 2003, an ODI investigator inspected Ms. Rodman's vehicle with the special tool used by Ford and Mercury dealers to perform the recall inspection. The brake/accelerator pedal lateral separation distance on Ms. Rodman's vehicle was 63 mm, well in excess of the 50 mm minimum specified under the recall. This measurement was performed as in the recall with the lash, or lateral movement, accounted for by moving the brake pedal towards the accelerator with light pressure.

The lateral movement of the pedal in the Rodman vehicle brake pedal was found to be comparable to other similarly equipped Sable and Taurus vehicles, approximately 30 mm.

Considering the fact that there were over 369,000 MY 2000-2002 Ford Taurus and Mercury Sable vehicles recalled and that the only alleged remedy failure reported to ODI was by the petitioner, there is no basis to open an investigation to examine whether the recall remedy is adequate. It is unclear what caused the unwanted vehicle acceleration reported by Ms. Rodman. The brake/accelerator pedal lateral separation distance on her vehicle was significantly more than the 50 mm minimum specified under the recall and the lateral movement of the brake pedal was not excessive.

In view of the foregoing, it is unlikely that NHTSA would issue an order requiring Ford to provide a different remedy for this defect. Therefore, in view of the need to allocate and prioritize NHTSA's limited resources to best accomplish the agency's safety mission, the petition is denied.

Authority: 49 U.S.C. 30120(e); delegations of authority at CFR 1.50 and 501.8.

Issued on: March 18, 2004.
Kenneth N. Weinstein,
Associate Administrator for Enforcement.

[FR Doc. 04-6455 Filed 3-22-04; 8:45 am]

BILLING CODE 4910-59-P